DEPARTMENT OF DEFENSE

Office of the Secretary

[Transmittal No. 22-63]

Arms Sales Notification

Correction

In notice document 2024-18294, appearing on pages 66360-66362, in the issue of Thursday, August 15, 2024, make the following correction:

On page 66361, an incorrect graphic referencing Transmittal No. 22-69 was inadvertently published in error. The correct graphic for Transmittal No. 22-63 is corrected to appear as set forth below:

BILLING CODE 0099-10-P

[FR Doc. C1-2024-18294 Filed 8-27-24; 8:45 am]

BILLING CODE 0099-10-C